DEPARTMENT OF ENERGY

[OE Docket No. EA-211-E]

Application To Export Electric Energy; DTE Energy Trading, Inc.

AGENCY: Office of Electricity, Department of Energy.

ACTION: Notice of application.

SUMMARY: DTE Energy Trading, Inc. (DTE Energy Trading or Applicant) has applied for authorization to transmit electric energy from the United States to Canada pursuant to the Federal Power Act.

DATES: Comments, protests, or motions to intervene must be submitted on or before May 12, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On March 30, 2022, DTE Energy Trading filed an application with DOE (Application or App.) to “transmit and export electricity from the United States to Canada . . . for a period of ten years or such period as the Department may authorize for similarly situated power marketers.” App. at 1. DTE Energy Trading states that it “is a corporation organized under the laws of Michigan with its principal place of business in Detroit, Michigan.” Id. at 2. DTE Energy Trading adds that it “is a wholly-owned affiliate of DTE Energy Resources, LLC d/b/a DTE Vantage, which is wholly-owned by DTE Energy Company.” Id. DTE Energy Trading represents that it “does not own or control electric generation or transmission facilities and does not have a franchised electric power area within the U.S. or Canada.” Id.

DTE Energy Trading further claims that it would “purchase the power it plans to export voluntarily from electric utilities, wholesale generators, power marketers and other parties and thus such power will be surplus to the needs of the selling parties.” App. at 4-5. DTE Energy Trading contends that its proposed exports would “not impair or tend to impede the sufficiency of electric power supplies in the United States or the regional coordination of electric utility planning or operation.” Id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning DTE Energy Trading's application to export electric energy to Canada should be clearly marked with OE Docket No. EA-211-E. Additional copies are to be provided directly to Geoffrey M. Goodale, 505 9th Street NW, Suite 100, Washington, DC 20004, gmgoodale@duanemorris.com; and Cynthia M. Klots, One Energy Plaza, 400 WCB, Detroit, MI 48226 Vincenzo Franco, cynthia.klots@dteenergy.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on April 7, 2022.
Christopher Lawrence,
Management and Program Analyst, Electricity Delivery Division, Office of Electricity.

[FR Doc. 2022-07799 Filed 4-11-22; 8:45 am]

BILLING CODE 6450-01-P